DEPARTMENT OF ENERGY

Federal Energy Regulatory Commission

Combined Notice of Filings

Take notice that the Commission has received the following Natural Gas Pipeline Rate and Refund Report filings:

Filings Instituting Proceedings

Docket Numbers: PR22-13-000.

Applicants: Gulf Coast Express Pipeline LLC.

Description: Submits tariff filing per 284.123(b),(e)/: Fuel Filing 12.1.2021 to be effective 12/1/2021.

Filed Date: 12/20/2021.

Accession Number: 20211220-5000.

Comments/Protests Due: 5 p.m. ET 1/10/22.

Docket Numbers: RP22-423-000.

Applicants: Transcontinental Gas Pipe Line Company, LLC.

Description: § 4(d) Rate Filing: Non-Conforming—Leidy South—Full In-Svc—Seneca to be effective 12/19/2021.

Filed Date: 12/17/21.

Accession Number: 20211217-5313.

Comment Date: 5 p.m. ET 12/29/21.

Docket Numbers: RP22-424-000.

Applicants: Natural Gas Pipeline Company of America LLC.

Description: § 4(d) Rate Filing: Amendment to a Negotiated Rate Agreement-Kiowa Power Partners, LLC to be effective 12/17/2021.

Filed Date: 12/17/21.

Accession Number: 20211217-5340.

Comment Date: 5 p.m. ET 12/29/21.

Docket Numbers: RP22-425-000.

Applicants: Alliance Pipeline L.P.

Description: § 4(d) Rate Filing: Negotiated Rates—Various Jan 1 Capacity Releases to be effective 1/1/2022.

Filed Date: 12/20/21.

Accession Number: 20211220-5027.

Comment Date: 5 p.m. ET 1/3/22.

Docket Numbers: RP22-426-000.

Applicants: NGO Transmission, Inc.

Description: § 4(d) Rate Filing: Negotiated Rate Filing to be effective 1/1/2022.

Filed Date: 12/20/21.

Accession Number: 20211220-5062.

Comment Date: 5 p.m. ET 1/3/22.

Docket Numbers: RP22-427-000.

Applicants: East Tennessee Natural Gas, LLC.

Description: § 4(d) Rate Filing: Negotiated Rates—Duke Energy Progress Releases to be effective 1/1/2022.

Filed Date: 12/20/21.

Accession Number: 20211220-5064.

Comment Date: 5 p.m. ET 1/3/22.

Docket Numbers: RP22-428-000.

Applicants: El Paso Natural Gas Company, L.L.C.

Description: § 4(d) Rate Filing: Update to Non-Conforming Negotiated Rate Agreement (Apache #612956) to be effective 12/18/2021.

Filed Date: 12/20/21.

Accession Number: 20211220-5229.

Comment Date: 5 p.m. ET 1/3/22.

Docket Numbers: RP22-429-000.

Applicants: Stagecoach Pipeline & Storage Company LLC.

Description: § 4(d) Rate Filing: Stagecoach Pipeline & Storage Company LLC—NRA Vitol, Twin Eagle & Direct Energy to be effective 1/1/2022.

Filed Date: 12/21/21.

Accession Number: 20211221-5000.

Comment Date: 5 p.m. ET 1/3/22.

Docket Numbers: RP22-430-000.

Applicants: Gulf South Pipeline Company, LLC.

Description: § 4(d) Rate Filing: Cap Rel Neg Rate Agmt (Panda 624 to Tenaska 54638) to be effective 12/22/2021.

Filed Date: 12/21/21.

Accession Number: 20211221-5021.

Comment Date: 5 p.m. ET 1/3/22.

Docket Numbers: RP22-431-000.

Applicants: Carolina Gas Transmission, LLC.

Description: Compliance filing: CGT—2021 Interruptible Revenue Sharing Report to be effective N/A.

Filed Date: 12/21/21.

Accession Number: 20211221-5046.

Comment Date: 5 p.m. ET 1/3/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-100-006.

Applicants: National Grid, LLC.

Description: Submits tariff filing per 154.203: Motion to Place Suspended Revised Tariff Records into Effect to be effective 12/18/2021.

Filed Date: 12/17/21.

Accession Number: 20211217-5332.

Comment Date: 5 p.m. ET 12/29/21.

Docket Numbers: RP22-99-001.

Applicants: Portland Natural Gas Transmission System.

Description: Compliance filing: Reservation Charge Credits Compliance to be effective 12/1/2021.

Filed Date: 12/17/21.

Accession Number: 20211217-5262.

Comment Date: 5 p.m. ET 12/29/21.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2021.
Kimberly D. Bose,
Secretary.

[FR Doc. 2021-28202 Filed 12-27-21; 8:45 am]

BILLING CODE 6717-01-P